DEPARTMENT OF ENERGY

Federal Energy Regulatory Commission

Notice of Scoping Meeting and Soliciting Scoping Comments for an Applicant Prepared Environmental Assessment Using the Alternative Licensing Process

March 29, 2002.

a. Type of Application: Alternative Licensing Process.

b. Project No.: 11894-001.

c. Applicant: Rugraw, Inc.

d. Name of Project: Lassen Lodge.

e. Location: The proposed Lassen Lodge Hydroelectric Project (Project) is located entirely on the South Fork of Battle Creek in Tehama County, California. No Federal lands would be affected.

f. Filed Pursuant to: Federal Power Act, 16 USC §§ 791(a)-825(r).

g. Applicant Contact: Art Hagood, Project Manager, Synergics Energy Services, 191 Main Street Annapolis, MD 21043; (410) 268-8820; ahagood@synergics.com.

h. FERC Contact: Kenneth Hogan at (202) 208-0434 or via e-mail at: Kenneth.Hogan@ferc.gov.

j. Deadline for filing scoping comments: May 28, 2002.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site (http://www.ferc.gov) under the “e-Filing” link.

k. The structures proposed for the Lassen Lodge Hydroelectric Project are: (1) a new 5-foot-high, 80-foot-long reinforced concrete diversion structure; (2) a half-acre reservoir with an operating surface elevation of 4,310 feet mean sea level (msl); (4) an intake structure located at the diversion dam to include trash racks, fish screens, and fish passage facilities; (5) a 19,200-foot-long burried penstock composed of a 42-inch-diameter, 7,200-foot-long, polyethylene section, and a 36 inch diameter, 12,000-foot-long steel section; (6) a powerhouse with an installed generating capacity of approximately 7 megawatts and a maximum hydraulic capacity of 100 cfs; (7) a 10-mile-long 60-kilovolt transmission line; and (8) a 55-foot-long reinforced concrete, box culvert tailrace discharge structure.

l. Scoping Process: Rugraw Inc. (Rugraw) intends to utilize the Federal Energy Regulatory Commission's (Commission) alternative licensing process (ALP). Under the ALP, Rugraw will prepare an Applicant Prepared Environmental Assessment (APEA) and license application for the Lassen Lodge Hydroelectric Project.

Rugraw expects to file with the Commission, the APEA and the license application for the project by October 2003.

The purpose of this notice is to inform you of the opportunity to participate in the upcoming scoping meetings identified below, and to solicit your scoping comments.

Scoping Meetings

Rugraw and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting: Thursday, April 25, 2002, 2 p.m. until concluded, Red Bluff Community Center 1500 South Jackson Road, Red Bluff, CA 96080.

Evening Meeting: Thursday, April 25, 2002, 6 p.m. until concluded, Red Bluff Community Center 1500 South Jackson Road, Red Bluff, CA 96080.

To help focus discussions, Scoping Document 1, prepared by Rugraw in coordination with the California State Water Resources Control Board, was mailed in March 2002, outlining the subject areas to be addressed in the APEA to the parties on the mailing list. Copies of the SD1 also will be available at the scoping meetings. SD1 may also be viewed on the web at http://www.ferc.gov using the “RIMS” link—select “Docket #” and follow the instructions (call 202-208-2222 for assistance).

Based on all written comments received, a Scoping Document 2 (SD2) may be issued. SD2 will include a revised list of issues, based on the scoping sessions.

Objectives

At the scoping meetings, Rugraw and the Commission staff will: (1) summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded and will become part of the formal record of the Commission proceeding on the project.

Individuals, organizations, and agencies with environmental expertise and concerns are encouraged to attend the meetings and to assist Rugraw in defining and clarifying the issues to be addressed in the APEA.

Linwood A. Watson, Jr.,
Deputy Secretary.

[FR Doc. 02-8131 Filed 4-4-02; 8:45 am]

BILLING CODE 6717-01-P